ENVIRONMENTAL PROTECTION AGENCY

[FRL-7225-9]

Agency Information Collection Activities: Submission for OMB Review; Comment Request, Aftermarket Catalytic Converter Policy

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title; Aftermarket Catalytic Converter Policy, OMB Control Number 2060-0135, expiration date May 31, 2002. The ICR describes the nature of the information collection and its expected burden and cost; where appropriate, it includes the actual data collection instrument.

DATES: Comments must be submitted on or before July 10, 2002.

ADDRESSES: Send comments, referencing EPA ICR No. 1292.06 and OMB Control No. 2060-0135, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at Auby.Susan@epamail.epa.gov or download off the Internet at http://www.epa.gov/icr and refer to EPA ICR No.1292.06 for technical questions about the ICR contact Jack McLaughlin at 303-336-9513.

SUPPLEMENTARY INFORMATION: Title: Aftermarket Catalytic Converter Policy, OMB Control Number 2060-0135, EPA ICR Number 1292.06, expiration date May 31, 2002. This is a request for extension of a currently approved collection.

Abstract: The aftermarket catalytic converter policy allows aftermarket automobile catalytic converter manufacturers and reconditioners to compete with the automobile manufacturers for the aftermarket catalytic converter replacement market. Without this policy, it would be illegal to sell or install aftermarket catalytic converters that do not conform exactly to the automobile manufacturers' original equipment (OE) versions of these parts.

Manufacturers: On a one-time basis for each type or line of converter manufactured: Manufacturers supply information identifying the supplier, and information regarding the physical specifications of each catalytic converter line produced, and information regarding pre-production testing of the converters that show they meet standards for certain specified vehicle applications (a single converter line can be used on a large number of vehicle applications). Once production has begun the manufacturer must submit to EPA on a semi-annual basis: the number of each type of catalyst manufactured and a summary of information contained on warranty cards or, at the option of the respondent, copies of warranty cards for all converters sold.

Reconditioners: On a one-time basis: Reconditioners provide information on the identity of company and a description of the test bench used for testing used catalytic converters and intended vehicle application(s) for each converter type. On a semi-annual basis: Reconditioners provide names and addresses of distributors along with the number of each type of converter sold to each distributor. All used converters must be tested individually to ensure they are still functional.

Installers of aftermarket converters: Installers have no reporting requirements. They simply fill out the warranty card and hand it to the retail customer. They must also include a brief statement with each invoice stating the need for replacing the original converter. They also tag each removed converter with a reference to the invoice for repair. The invoices are required to be kept for 6 months. The tagged converters are required to be kept for 15 days.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on January 3, 2002. One comment was received and this was addressed in the supporting statement.

Burden Statement: The annual public reporting and recordkeeping burden for this collection of information is estimated to average 0.5 hours per response (60,180 total burden hours divided by 30,020 total respondents). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of new aftermarket catalytic converters, reconditioners of used OE catalytic converters, and muffler and vehicle repair shops.

Estimated Number of Respondents: 30,020.

Frequency of Response: Semi-annually.

Estimated Total Annual Hour Burden: 111,308.

Estimated Total Annualized Capital, O&M Cost Burden: $822.

Send comments on the Agency's need for this information, the accuracy of the provided burden estimates, and any suggested methods for minimizing respondent burden, including through the use of automated collection techniques to the addresses listed above. Please refer to EPA ICR No. 1292.06 and OMB Control No. 2060-0135 in any correspondence.

Dated: May 30, 2002.
Oscar Morales,
Director, Collection Strategies Division.

[FR Doc. 02-14481 Filed 6-7-02; 8:45 am]

BILLING CODE 6560-50-U